DEPARTMENT OF VETERANS AFFAIRS

[OMB Control No. 2900-New (VA Form 10-0488)]

Proposed Information Collection (Follow-Up Study of a National Cohort of Gulf War and Gulf Era Veterans) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection and allow 60 days for public comment in response to the notice. This notice solicits comments on information needed to assist in VA's efforts to address the health concerns and problems of Gulf War Veterans.

DATES: Written comments and recommendations on the proposed collection of information should be received on or before November 8, 2010.

ADDRESSES: Submit written comments on the collection of information through the Federal Docket Management System (FDMS) at http://www.Regulations.gov; or to Mary Stout, Veterans Health Administration (193E1), Department of Veterans Affairs, 810 Vermont Avenue, NW., Washington, DC 20420 or e-mail: mary.stout@va.gov. Please refer to “OMB Control No. 2900-New (VA Form 10-0488)” in any correspondence. During the comment period, comments may be viewed online through FDMS.

FOR FURTHER INFORMATION CONTACT: Mary Stout (202) 461-5867 or FAX (202) 273-9387.

SUPPLEMENTARY INFORMATION: Under the PRA of 1995 (Pub. L. 104-13; 44 U.S.C. 3501—3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Follow-Up Study of a National Cohort of Gulf War and Gulf Era Veterans, VA Form 10-0488, and Consent Form for Release of Medical Records, VA Form 10-0488a.

OMB Control Number: OMB Control No. 2900-New.

Type of Review: New Collection.

Abstracts

a. The data collected on VA Form 10-0488, will help VA to assess the health of Gulf War veterans who were exposed to a variety of environmental factors potentially linked to a chronic condition including Chronic Fatigue Syndrome and unexplained multi-system illnesses. VA will use the data to better understand the long-term consequences of military deployment and to provide better health care for Gulf War veterans.

b. VA Form 10-0488a is completed by claimants to request release of medical records from their health care provider.

Affected Public: Individuals or households.

Estimated Annual Burden

a. Follow-Up Study of a National Cohort of Gulf War and Gulf Era Veterans, VA Form 10-0488—9,000.

b. Consent Form for Release of Medical Records, VA Form 10-0488a—117.

Frequency of Response: Annually.

Estimated Average Burden per Respondents

a. Follow-Up Study of a National Cohort of Gulf War and Gulf Era Veterans, VA Form 10-0488—30 minutes.

b. Consent Form for Release of Medical Records, VA Form 10-0488a—10 minutes.

Estimated Annual Responses

a. Follow-Up Study of a National Cohort of Gulf War and Gulf Era Veterans, VA Form 10-0488—18,000.

b. Consent Form for Release of Medical Records, VA Form 10-0488a—700.

Dated: September 3, 2010.
By direction of the Secretary.
Denise McLamb,
Program Analyst, Enterprise Records Service.

[FR Doc. 2010-22436 Filed 9-8-10; 8:45 am]

BILLING CODE 8320-01-P